DEPARTMENT OF THE INTERIOR

National Park Service

[NPS-WASO-NRNHL-19204; PPWOCRADI0, PCU00RP14.R50000]

National Register of Historic Places; Notification of Pending Nominations and Related Actions

Nominations for the following properties being considered for listing or related actions in the National Register were received by the National Park Service before August 22, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by October 2, 2015. Before including your address, phone number, email address, or other personal identifying information in your comment, you should be aware that your entire comment—including your personal identifying information—may be made publicly available at any time. While you can ask us in your comment to withhold your personal identifying information from public review, we cannot guarantee that we will be able to do so.

Dated: September 1, 2015.
J. Paul Loether,
Chief, National Register of Historic Places/National Historic Landmarks Program.

CALIFORNIA

San Mateo County

Dielmann, John, House, 1020 Main St., Redwood City, 15000681

Offerman, John, House, 1018 Main St., Redwood City, 15000682

DISTRICT OF COLUMBIA

District of Columbia

U.S. Department of Agriculture Cotton Annex, 300 12th St., SW., Washington, 15000683

HAWAII

Hawaii County

Honokaa People's Theatre, 45-3574 Mamane St., Honokaa, 15000684

Hotel Honokaa Club, 45-3480 Mamane St., Honokaa, 15000685

KANSAS

Barton County

Great Bend Army Air Field Hangar, (World War II-Era Aviation-Related Facilities of Kansas) 9047 6th St., Great Bend, 15000686

Norden Bombsight Storage Vaults, (World War II-Era Aviation-Related Facilities of Kansas) 9047 6th St., Great Bend, 15000687

Bourbon County

Fulton High School and Grade School, (Public Schools of Kansas MPS) 408 W. Osage St., Fulton, 15000688

Ellis County

Papes Barn, (Agriculture-Related Resources of Kansas MPS) 890 Ellis Ave., Ellis, 15000689

Lincoln County

Evangelical Lutheran School, 308 N. Indiana St., Sylvan Grove, 15000690

Riley County

Kimble, Francis Byron (Barney), House, (Late 19th and Early 20th Century Residential Resources in Manhattan, Kansas MPS), 720 Poyntz Ave., Manhattan, 15000691

Stafford County

Martin Cemetery, US 50, 1/4 mi. W. of US 281, St. John, 15000692

LOUISIANA

East Baton Rouge Parish

Sharp, John and Amelia, House, 7585 Willow Grove Blvd., Baton Rouge, 15000693

Lafayette Parish

Freetown—Port Rico Historic District, Roughly bounded by E. University, Lee & Lucille Aves., Garfield, Coolidge & Taft Sts., Jefferson Blvd., Lafayette, 15000694

Livingston Parish

Brown Hotel and Cafe, 114 N. Range Ave., Denham Springs, 15000695

Orleans Parish

Jones, Henry, Cottage, 2409-2411 D'Abadie St., New Orleans, 15000696

Standard Coffee Company Warehouse and Factory, 450 Mandeville St., New Orleans, 15000697

Tensas Parish

Routhwood Elementary School, 217 Lombardo St., Newellton, 15000698

Terrebonne Parish

Houma Historic District (Boundary Increase and Decrease), 7717, 7719, 7725, 7801-09, 7815-17, 7819 W. Main, 407, 425, 507 Rousell, 7910, 7932, 7936, 7942 W. Park Ave., Houma, 15000699

Vermilion Parish

Beard Congregational Church, 402 Granger St., Erath, 15000700

MICHIGAN

Marquette County

Holy Family Orphanage, 600 Altamont St., Marquette, 15000701

Wayne County

Cleveland, Elizabeth, Intermediate School, (Public Schools of Detroit MPS) 13322 Conant St., Detroit, 15000702

MISSOURI

St. Louis County

U.S. Army Publications Distribution Center, 1655 Woodson Rd., Overland, 15000704

SOUTH CAROLINA

Charleston County

Huger, Cleland Kinloch and Burnet R. Maybank, House, 8 Legare St., Charleston, 15000705

Greenville County

Fulmer, James A., House, 303 N. Main St., Fountain Inn, 15000706

Greenville Elks Lodge, 18 E. North St., Greenville, 15000707

Spartanburg County

Converse Mill, 200 High St., Spartanburg, 15000709

TEXAS

Dallas County

Lamar—McKinney Bridge, (Road Infrastructure of Texas, 1866-1965 MPS) Across Trinity R. at Continental Ave., Dallas, 15000708

WISCONSIN

Brown County

Nicolet High School, 111 3rd St., De Pere, 15000703

Door County

HANOVER (schooner) Shipwreck, (Great Lakes Shipwreck Sites of Wisconsin MPS) 1.75 mi. NW. of Fish Cr., Gibralter, 15000710

UCCESS (scow schooner) Shipwreck, (Great Lakes Shipwreck Sites of Wisconsin MPS) .13 mi. SW. of Whitefish Dunes State Park, Sevastopal, 15000711

Manitowoc County

PATHFINDER (schooner) Shipwreck, (Great Lakes Shipwreck Sites of Wisconsin MPS) 2.6 mi. N. of Rawley Point Lighthouse, Two Creeks, 15000712

Marinette County

Brown, Mary and Harry, House, 1931 Riverside Ave., Marinette, 15000713

[FR Doc. 2015-23316 Filed 9-16-15; 8:45 am]

BILLING CODE 4312-51-P